ENVIRONMENTAL PROTECTION AGENCY

[FRL-7265-2]

Emission Guidelines for Existing Small Municipal Waste Combustion Units

AGENCY: Environmental Protection Agency (EPA).

ACTION: Notice of denial of petitions for reconsideration.

SUMMARY: In February 2001, EPA received two petitions for reconsideration of the emission guidelines for existing small municipal waste combustion (MWC) units (40 CFR part 60 subpart BBBB). The first petition, dated February 2, 2001, was from Mr. Timothy Henderson representing Waste Energy Partners Limited Partnership, eco/Springfield, L.L.C., and Wasatch Energy Systems (f.k.a. Davis County Solid Waste Management and Energy Recovery Special Service District), which subsequently withdrew its petition (collectively Industry Petitioners). The second petition, dated February 5, 2001, was from the New York Public Interest Research Group, Inc. (NYPIRG). The petitions and all available information submitted by the petitioners along with information contained in the rulemaking docket (Docket No. A-98-18) were considered in reaching a decision on the merits of the petitions. After careful consideration, the EPA Administrator determined to deny the petitions and the petitioners were notified of this fact in separate letters signed by Jeffrey R. Holmstead, Assistant Administrator for the Office of Air and Radiation, and dated August 7, 2002 (Industry Petitioners) and August 14, 2002 (NYPIRG). Copies of the denial letters are contained in Docket No. A-98-18.

FOR FURTHER INFORMATION CONTACT: Mr. Walter Stevenson at Combustion Group, Emission Standards Division (C439-01), Office of Air Quality Planning and Standards, U.S. EPA, Research Triangle Park, NC 27711, telephone number (919) 541-5264, facsimile number (919) 541-5450, electronic mail address “stevenson.walt@epa.gov.”

Dated: August 15, 2002.
Robert Brenner,
Acting Assistant Administrator, Office of Air and Radiation.

[FR Doc. 02-21443 Filed 8-21-02; 8:45 am]

BILLING CODE 6560-50-P